DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Biannual Infrastructure Development Measures for State Adolescent and Transitional Aged Youth Treatment Enhancement and Dissemination Implementation (SYT-I) and Adolescent and Transitional Aged Youth Treatment Implementation (YT-I) Programs—(OMB No. 0930-0344)—Revision

The Substance Abuse and Mental Health Services Administration (SAMHSA), Center for Substance Abuse Treatment has developed a set of infrastructure development measures in which recipients of cooperative agreements will report on various benchmarks on a semi-annual basis. The infrastructure development measures are designed to collect information at the state-level and site-level.

The projects were previously named State Adolescent Treatment Enhancement and Dissemination (SAT-ED) and State Youth Treatment Enhancement and Dissemination (SYT-ED) Programs and are now called State Adolescent And Transitional Aged Youth Treatment Enhancement and Dissemination Implementation (SYT-I) and Adolescent and Transitional Aged Youth Treatment Implementation (YT-I) Programs.

No changes have been made to the Biannual Infrastructure Development Measures Report. The only revision to the biannual progress report is due to the decrease in the number of respondents. The infrastructure development measures are based on the programmatic requirements conveyed in TI-15-004, Cooperative Agreements for SYT-I and TI-17-002, Cooperative Agreements for YT-I.

The purpose of this program is to provide funding to States/Territories/Tribes to improve treatment for adolescents and transitional age youth through the development of a learning laboratory with collaborating local community-based treatment provider sites. Through the shared experience between the State/Territory/Tribe and the local community-based treatment provider sites, an evidence-based practice (EBP) will be implemented, youth and families will be provided services, and a feedback loop will be developed to enable the State/Territory/Tribe and the sites to identify barriers and test solutions through a services component operating in real time. The expected outcomes of these cooperative agreements will include needed changes to State/Territorial/Tribal policies and procedures; development of financing structures that work in the current environment; and a blueprint for States/Territories/Tribes and providers that can be used throughout the State/Territory/Tribe to widen the use of effective substance use treatment EBPs. Additionally, adolescents (ages 12 to 18), transitional age youth (ages 18 to 24), and their families/primary caregivers who are provided services through grant funds will inform the process to improve systems issues.

Estimates for response burden were calculated based on the methodology (survey data collection) being used and are based on previous experience collecting similar data and results of the pilot study. For emailed biannual surveys, burden estimates of 12.0 hours were used for Project Directors and/or Program Managers and burden estimates of 7.2 hours were used for other project staff members. It is estimated that 11 Project Directors and/or Program Managers and 22 other staff members from Cohort 1 will respond to the emailed survey biannually (i.e., twice each year) for 3 years at an estimated total burden of 1,742.4 hours for Cohort 1. It is estimated that 2 Project Directors and/or Program Managers and 4 other staff members from Cohort 2 will respond to the emailed survey biannually (i.e., twice each year) for 3 years at an estimated total burden of 316.8 hours for Cohort 2. It is estimated that 11 Project Directors and/or Program Managers and 22 other staff members from Cohort 3 will respond to the emailed survey biannually (i.e., twice each year) for 3 years at an estimated total burden of 1,742.4 hours for Cohort 3. The burden hours of Cohort 1 (1,742.4 hours), Cohort 2 (316.8 hours) and Cohort 3 (1,742.4 hours) combined comes to a total estimated burden for the emailed biannual survey of 3,801.6 hours.

Table 1—Data Collection Burden for Biannual Infrastructure Development Measure for Cohorts 1, 2, and 3
Cohort | Respondent type | Number of respondents | Responses per respondent | Total responses | Hours per response | Total annual hour burden
1 | Project Director ᵃ | 11 | 2 | 22 | 12.0 | 264
2 | Project Director ᵃ | 2 | 2 | 4 | 12.0 | 28
3 | Project Director ᵃ | 11 | 2 | 22 | 12.0 | 264
Total |  | 24 |  | 48 |  | 556
ᵃ Total PD/PM and total other staff member cost are calculated as hourly wage × time spent on progress report × number of participants.

Table 2—Annualized Burden for Biannual Infrastructure Development
Respondent type | Number of respondents | Responses per respondent | Total responses | Hours per response | Total annual hour burden
Project Director | 11 | 2 | 22 | 12.0 | 264

Written comments and recommendations concerning the proposed information collection should be sent by October 12, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-19251 Filed 9-11-17; 8:45 am]

BILLING CODE 4162-20-P